DEPARTMENT OF COMMERCE

National Oceanic and Atmospheric Administration

Agency Information Collection Activities; Submission to the Office of Management and Budget for Review and Approval; Comment Request; Atlantic Highly Migratory Species Scientific Research, Exempted Fishing, and Exempted Activity Submissions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to the Office of Management and Budget.

DATES: To ensure consideration, comments regarding this proposed information collection must be received on or before February 12, 2024.

ADDRESSES: Interested persons are invited to submit written comments to Adrienne Thomas, NOAA PRA Officer, at Adrienne.thomas@noaa.gov. Please reference OMB Control Number 0648-0471 in the subject line of your comments. Do not submit Confidential Business Information or otherwise sensitive or protected information.

FOR FURTHER INFORMATION CONTACT: Requests for additional information or specific questions related to collection activities should be directed to Cliff Hutt, Fisheries Management Specialist, National Marine Fisheries Service (NMFS), Highly Migratory Species (HMS) Management Division, 1315 East-West Highway, SSMC3, Silver Spring, MD 20910; 301-427-8503; or cliff.hutt@noaa.gov.

SUPPLEMENTARY INFORMATION:

I. Abstract

Atlantic highly migratory species (HMS) fisheries are managed under the 2006 Consolidated HMS Fishery Management Plan (FMP) and its amendments, pursuant to the Magnuson-Stevens Fishery Conservation and Management Act (Magnuson-Stevens Act; 16 U.S.C. 1801 et seq.) and consistent with the Atlantic Tunas Convention Act (ATCA; 16 U.S.C. 971 et seq.). The implementing regulations for HMS fisheries are found at 50 CFR part 635.

Issuance of exempted fishing permits (EFPs), scientific research permits (SRPs), display permits, letters of acknowledgment (LOAs), and shark research fishery permits is necessary for the collection of HMS for public display and scientific research that requires exemption from regulations (e.g., seasons, prohibited species, authorized gear, minimum sizes) that otherwise may prohibit such collection. Display permits are issued for the collection of HMS for the purpose of public display, and a limited number of shark research fishery permits are issued for the collection of fishery-dependent data for future stock assessments and cooperative research with commercial fishermen to meet the shark research objectives of the Agency.

Regulations at 50 CFR 600.745 and 50 CFR 635.32 govern scientific research activity, exempted fishing, and exempted educational activities with respect to HMS. Since the Magnuson-Stevens Act does not include scientific research within the definition of “fishing,” scientific research is exempt from this statute, and NMFS does not issue EFPs for bona fide research activities (e.g., research conducted from a research vessel and not a commercial or recreational fishing vessel) involving species that are only regulated under the Magnuson-Stevens Act (e.g., most species of sharks) and not under ATCA. NMFS requests copies of scientific research plans for these activities and indicates concurrence by issuing a LOA to researchers to indicate that the proposed activity meets the definition of scientific research and is therefore exempt from regulation.

Scientific research is not exempt from regulation under ATCA. NMFS issues SRPs for collection of species managed under this statute (i.e., tunas, swordfish, billfish, and some shark species), which authorize researchers to collect HMS from bona fide research vessels (e.g., NMFS or university research vessel). NMFS will issue an EFP when research/collection involving such species occurs from commercial or recreational fishing platforms.

To regulate these fishing activities, NMFS needs information to determine the justification for granting an EFP, LOA, SRP, display, or shark research fishery permit. The application requirements are detailed at 50 CFR 600.745(b)(2). Interim, annual, and no-catch/fishing reports must also be submitted to the HMS Management Division within NMFS (excluding LOAs). The authority for NMFS requiring this information is found at 50 CFR 635.32.

NMFS has updated the burden estimates based on participation in the HMS Management Division's exempted fishing program from 2021 through 2023 and the Shark Research Fishery from 2021 through 2023.

II. Method of Collection

Respondents can submit the required information via email via electronic forms (PDF or spreadsheet). NMFS is currently developing an online electronic reporting portal for the submission of required EFP reports, which will be available in 2024.

III. Data

OMB Control Number: 0648-0471.

Form Number(s): None.

Type of Review: Regular submission (extension of a currently approved collection).

Estimated Number of Respondents: 58.

Estimated Time per Response: 2 hours for a scientific research plan; 40 minutes for an application for an EFP, display permit, SRP, LOA, or shark research fishery permit; 1 hour for an interim report; 40 minutes for an annual fishing report; 15 minutes for an application for an amendment; 5 minutes for notification of departure phone calls to NMFS Enforcement; 10 minutes for calls to request and observer; and 2 minutes for “no-catch” reports.

Estimated Total Annual Burden Hours: 224.

Estimated Total Annual Cost to Public: None.

Respondent's Obligation: Voluntary for applications and Mandatory for reporting and notifications.

Legal Authority: Magnuson-Stevens Fishery Conservation and Management Act (16 U.S.C. 1801 et seq.), and the Atlantic Tunas Convention Act of 1975. (16 U.S.C. 971 et seq.)

IV. Request for Comments

We are soliciting public comments to permit the Department/NMFS to: (a) Evaluate whether the proposed information collection is necessary for the proper functions of the Department/NMFS, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-27248 Filed 12-11-23; 8:45 am]

BILLING CODE 3510-22-P